DEPARTMENT OF ENERGY

Notice of Intent To Prepare an Environmental Impact Statement for the Proposed North Plains Connector Project, Colstrip, Montana to Center/St. Anthony, North Dakota

AGENCY: Grid Deployment Office, Department of Energy.

ACTION: Notice of intent to prepare an environmental impact statement and request for comments.

SUMMARY: In compliance with the National Environmental Policy Act of 1969, as amended (NEPA), the Federal Land Policy and Management Act of 1976, as amended, and the Federal Power Act (FPA), as amended, the Grid Deployment Office (GDO), Department of Energy (DOE), in coordination with Federal cooperating agencies—the Bureau of Land Management (BLM) Miles City Field Office, Miles City, MT; the United States Forest Service (USFS), an agency of the Department of Agriculture (USDA), Dakota Prairie Grasslands, Bismarck, ND; and the Agricultural Research Service (ARS) Fort Keogh Livestock and Range Research Laboratory, Miles City, MT—intends to prepare jointly, with the Montana Department of Environmental Quality (Montana DEQ), an environmental impact statement (EIS; DOE/EIS-0568) to analyze the potential environmental impacts of granting authorizations to North Plains Connector LLC for siting, constructing, operating, and maintaining the North Plains Connector Project (“the proposed Project”), an up to 525-kilovolt (kV) high-voltage direct-current (HVDC) electrical transmission line connecting the Eastern and Western Interconnections (also referred to as the eastern and western grids). By this notice, GDO is announcing the beginning of the scoping process to solicit public comments and identify issues, impacts, and possible need for mitigation.

DATES: This notice initiates the public-scoping process for the EIS. GDO requests that the public submit comments concerning the scope of the analysis, potential alternatives and impacts, and identification of relevant information, analyses, and studies by December 9, 2024. GDO will hold five scoping meetings on the following dates at the following locations:

Date | Time | Location/format
Wednesday, November 6, 2024 | 4-7 p.m. CT | Venue Twenty5, 3796 ND Hwy. 25, Mandan, ND 58554.
Thursday, November 7, 2024 | 6-9 p.m. MT | Astoria Event Center, 363 15 St. W, Dickinson, ND 58601.
Tuesday, November 12, 2024 | 4-7 p.m. MT | Custer County Event Center, 42 Garryowen Road RC, Miles City, MT 59301.
Wednesday, November 13, 2024 | 6-9 p.m. MT | Colstrip City Hall, 12 Cherry Street, Colstrip, MT 59323.
Tuesday, November 19, 2024 | 12-3 p.m. MT | VIRTUAL via Webex, register here: https://bit.ly/NorthPlainsVirtual.

If any additional scoping meetings are scheduled, the date(s) and location(s) of those meetings will be announced at least 15 days in advance through the GDO North Plains Connector Project website: https://www.energy.gov/nepa/doeeis-0568-north-plains-connector-multiple-locations.

ADDRESSES: You can comment on the proposed Project by contacting Rebecca “RJ” Boyle, NEPA Document Manager, by any of the following methods:

• Email: northplainsconnector@hq.doe.gov.

• Mail: Rebecca “RJ” Boyle, NPC NEPA Document Manager, U.S. Department of Energy, Grid Deployment Office, 1000 Independence Avenue SW, Washington, DC 20585.

Documents pertinent to this NOI may be examined online at https://www.energy.gov/nepa/doeeis-0568-north-plains-connector-multiple-locations.

FOR FURTHER INFORMATION CONTACT: Rebecca “RJ” Boyle, GDO NEPA Document Manager, northplainsconnector@hq.doe.gov; (301) 550-0364. Contact Ms. Boyle to have your name added to the EIS mailing list.

SUPPLEMENTARY INFORMATION: The proposed Project would traverse both private and public lands administered by various local, state, and Federal agencies and would require authorizations for the crossing of Federal lands managed by BLM, USFS, and ARS, as well as authorizations from Montana DEQ, North Dakota Public Service Commission (NDPSC), and six counties in North Dakota.

The proposed Project is currently expected to require a right-of-way (ROW) authorization from the BLM for the portion of the proposed Project that crosses approximately ten miles (about 240 acres) of lands administered by the Miles City Field Office (MCFO) in Montana as well as a mineral materials sales contract for any Federal minerals access necessary for the construction of the ROW, whether those minerals occur in Montana or in North Dakota; a special-use permit (SUP) from USFS for the portion of the proposed Project that crosses approximately ten miles (about 250 acres) of lands administered by the Dakota Prairie Grasslands (DPG) in North Dakota; and an easement from the ARS for the portion of the proposed Project that crosses approximately eight miles (about 200 acres) of lands administered by the Fort Keogh Livestock and Range Research Laboratory in Montana. The developer of the proposed Project, North Plains Connector LLC (the “Project Proponent” or “North Plains”), a wholly-owned, single-purpose indirect subsidiary of Grid United, LLC (“Grid United”), has filed applications with the BLM, the USFS, and ARS proposing to construct, operate, and maintain the proposed Project.

This proposed Project would also cross state-managed public lands in both Montana and North Dakota.¹ North Plains has submitted an Application for a Certificate of Compliance under the Montana Major Facility Siting Act (MFSA) with the Montana DEQ. The MFSA review allows Montana agencies to review the Project, ensure protection of Montana's environmental resources, consider socioeconomic impacts, provide for public participation in the siting decisions, and coordinate amongst agencies and the various required authorizations for the Project. This process requires compliance with the Montana Environmental Policy Act (MEPA), which includes an environmental review. The Joint Lead Agencies will ensure that the EIS meets the requirements of both NEPA and MEPA.

¹ North Plains will submit a Consolidated Application for a Certificate of Corridor Compatibility and Transmission Facility Route Permit with the North Dakota Public Service Commission (NDPSC). The NDPSC will conduct its own review process separate from the coordinated Montana-Federal environmental review.

Identification of Cooperating and Participating Agencies

While GDO is the Lead Federal Agency for the EIS, GDO does not have the authority or responsibility to make decisions on North Plains' applications to BLM, USFS, and ARS. Under Federal law, BLM, USFS, and ARS each remain responsible for responding to authorization applications for lands within their respective jurisdictions. Pursuant to interagency agreements, and in accordance with section 216(h) of the FPA, GDO is the Lead Federal Agency responsible for coordinating the various Federal authorizations and related environmental reviews needed for this proposed Project. GDO and the Montana DEQ are Joint Lead Agencies for this Project's EIS in accordance with section 107(a)(1)(B) of NEPA and CEQ regulations (40 CFR 1501.7(b)). The Joint Lead Agencies will ensure that the EIS meets the requirements of both NEPA and MEPA. BLM, USFS, and ARS will participate as cooperating agencies as defined at 40 CFR 1501.8. On November 6, 2023, BLM, USFS, and ARS signed cooperating agency agreements with GDO outlining the respective roles and responsibilities of each agency during the proposed Project.

In addition to the Joint Lead Agency (Montana DEQ) and the three cooperating agencies (BLM, USFS, and ARS) already participating in the Project, per 40 CFR 1501.8, GDO will invite other Federal agencies with jurisdiction by law, or those Tribal, State, or local governments with special expertise related to the relevant environmental issues, to collaborate as cooperating agencies. GDO will provide cooperating agencies with a written summary of expectations, including schedules, milestones, responsibilities, scope, and details of agency expected contributions. Governmental agencies that are not designated cooperating or participating agencies will have the opportunity to provide information, comments, and consultation to GDO during the public input stages of the NEPA process.

Proposed Project Details

The proposed Project would consist of approximately 420 total miles of overhead electrical transmission line connecting the eastern and western grids. The 420-mile route described in this section will be known as the Proposed Route Alternative. In addition to 420-mile route described, the Project proposes to include the following:

• A new 500-kilovolt (kV) extra high voltage (EHV) alternating current (AC) electrical transmission line in Rosebud County, Montana (Rosebud Transmission Line). The new line would consist of two separate, parallel circuits, each approximately 3 miles long with an associated right-of-way approximately 320 feet wide. The Rosebud Transmission Line would extend east from the existing Colstrip Substation owned by a third-party, to a new AC/direct current (DC) converter station in Rosebud County. The Colstrip Substation would serve as the interconnection point to the Western Electricity Coordinating Council (WECC) power system for the western grid. NorthWestern Energy Group, Inc., a utility company that serves South Dakota, Nebraska, and Montana, is currently upgrading this substation to allow for additional interconnections into the region. These modifications are ongoing independent of the proposed Project, but the proposed Project would utilize these upgrades for interconnection.

• One new AC/DC converter station in Rosebud County, Montana (Rosebud County Converter Station). The converter station would connect the eastern terminus of the Rosebud Transmission Line to the western terminus of the new high voltage direct current (HVDC) electrical transmission line.

• An approximately 341-mile, up to 525-kV, HVDC transmission line from Montana into North Dakota with an associated 200-foot-wide right-of-way (HDVC Transmission Line).

○ Montana: North Plains would install approximately 172 miles of the HVDC Transmission Line in Rosebud, Custer, and Fallon counties. The line would extend east from the new Rosebud County Converter Station to the Montana-North Dakota state line in Fallon County.

○ North Dakota: North Plains would install approximately 169 miles of the HVDC Transmission Line in Golden Valley, Slope, Hettinger, Grant, and Morton counties. The line would extend east from the Montana-North Dakota border in Golden Valley County to the new AC/DC Converter Station in Morton County, North Dakota.

• One new AC/DC converter station in Morton County, North Dakota (Morton County Converter Station). The converter station would connect the eastern terminus of the new HVDC Transmission Line to the western terminus of two new 345-kV EHV AC electric transmission line segments.

• Approximately 51 miles of new 345-kV EHV AC transmission line located in Morton and Oliver counties, North Dakota, within an associated right-of-way approximately 200 feet wide (Oliver Transmission Line). The line would extend east and north from the Morton County Converter Station in Morton County to a separately planned Oliver County Substation in Oliver County, North Dakota. Minnesota Power has proposed and would develop the Oliver County Substation as part of the Minnesota Power HVDC Modernization Project, which is modernizing the existing Square Butte HVDC System between North Dakota and Minnesota that was built in the 1970s. The Oliver County Substation would serve as the interconnection point to the Midcontinent Independent System Operator (MISO) for the eastern grid.

• Approximately 22 miles of new 345-kV EHV AC transmission line near St. Anthony in Morton County, North Dakota (Morton Transmission Line). The line would extend east and southeast from the Morton County Converter Station to a new Morton County Switchyard, which connects or isolates lines for fault clearance and maintenance. The Morton County Switchyard would serve as the interconnection point to the Southwest Power Pool (SPP) system for the eastern grid.

The Project would also include associated facilities, including temporary and permanent access roads, telecommunication systems, and grounding components.

The Project would require temporary workspaces during the construction phase to access the construction site, stage equipment and material, and install the various Project components. (See https://www.energy.gov/nepa/doeeis-0568-north-plains-connector-multiple-locations for a map of the proposed Project).

Purpose and Need

While GDO is the Lead Federal Agency for the EIS, GDO does not have the authority or responsibility to make decisions on North Plains' applications to BLM, USFS, and ARS. Those Federal agencies retain their respective decision-making authority and responsibilities with respect to North Plains' applications on their respectively managed lands. Accordingly, each of those agencies has provided its own purpose and need in addition to the general purpose and need and GDO's purpose and need to establish the basis for their individual decisions to be made for this Project.

General Purpose and Need

The Joint Lead Agencies, along with BLM, USFS, and ARS, all agree on the general purpose and need for North Plains' proposed transmission line Project, which is to enhance the reliability, capacity, and efficiency between the Eastern and Western Interconnections of the electric grid. Construction of the proposed Project aims to increase wholesale energy market access for generation resources; provide services and technology to help maintain operational flexibility of the grid; and provide a highly controllable electric transmission pathway that can quickly and efficiently shift power to meet real-time system needs, including mitigating weather-driven and system outage conditions that can otherwise affect the reliable provision of electricity. The new transmission line would provide a more resilient and flexible infrastructure, ensuring a stable supply of electricity to residential, commercial, and industrial consumers.

The proposed transmission line Project seeks to address several needs found in the project area, including meeting and balancing increasing demands for electricity found in both the eastern and western grids, integrating diversified sources of energy, increasing the reliability and resilience of the electrical grid, and promoting regional economic development by expanding opportunities for market access for electricity generators throughout the region. A 2020 National Renewable Energy Laboratory Study “The Value of Increased HVDC Capacity Between Eastern and Western U.S. Grids: The Interconnections Seam Study” ² showed that increased transfer capability between the eastern and western grids could result in a 35-year benefit-to-cost ratio as high as 2.89 and net present value consumer savings of up to $28.8 billion.

² www.nrel.gov/docs/fy21osti/76850.pdf.

GDO Purpose and Need

GDO's purpose is to fulfill its responsibilities under the FPA to coordinate a single environmental review that follows a standard, two-year permitting schedule for transmission infrastructure projects that require Federal permitting. In fulfilling its responsibilities, GDO seeks to streamline the Federal permitting process for qualifying electric transmission projects to expand and accelerate development of electric transmission capacity in the United States and, in turn, ensure Americans have access to reliable, affordable, and clean energy; promote grid resilience and reliability; modernize the United States grid; reduce permitting delays; and promote economic growth.

BLM Purpose and Need

BLM's purpose is to respond to North Plains' request for right-of-way access across about ten miles of Federal lands administered by the Miles City Field Office, Montana, for the siting, construction, and operation of an up to 525-kV-rated, bi-directional HVDC transmission facility and associated support facilities within a 200-foot right-of-way which would be part of a system of high voltage AC and DC facilities over approximately 400 miles between Colstrip, Montana and Oliver and Morton Counties, North Dakota. This request for a right-of-way may include necessary access of Federal mineral materials in Montana and North Dakota for the construction of project-related infrastructure.

The need for the action is established through BLM's responsibility under the Federal Land Policy Management Act (FLPMA) to respond to requests for rights-of-way across BLM-managed lands, as well as the Surfaces Resources Act of 1955 and the Act of July 31, 1947 (Disposal of Materials on Public Lands) for any necessary mineral material sales contracts.

USFS Purpose and Need

The proposed Project would require the issuance of a special use permit for the crossing of about ten miles of Federal lands managed by the USFS on the Little Missouri National Grasslands, North Dakota. For this crossing, the proposed Project would entail siting, construction, and operation of an up to 525-kV-rated, bi-directional HVDC transmission facility and associated support facilities within a 200-foot right-of-way which would be part of a system of high voltage AC and DC facilities over approximately 10.3 miles (3.1 miles Golden Valley County; 7.2 miles Slope County) on the Little Missouri National Grassland.

Section 368(c) of the Energy Policy Act of 2005 directs USFS to establish procedures for identifying and designating additional energy corridors on Federal lands and to expedite applications for energy transmission and distribution facilities within those corridors. USFS is mandated to cooperate and coordinate with other Federal agencies to optimize siting of rights-of-way for energy corridors on National Forest System lands (30 U.S.C. 185(p); 43 U.S.C. 1763), and to endeavor to expedite applications for energy transmission and distribution facilities on National Forest System lands through coordination with other affected Federal agencies.

ARS Purpose and Need

ARS's purpose is to respond to North Plains' request for an easement access across about eight miles of Federal land managed by ARS in Montana for the siting, construction, and operation of an up to 525-kV-rated, bi-directional HVDC transmission facility and associated support facilities within a 200-foot right-of-way. The need for the action is established through 43 U.S.C. 961, Rights-of-Way for Power and Communications Facilities.

Alternatives

Several alternatives have been identified for potential analysis in the forthcoming EIS. These alternatives include different routing options, as well as variations in routing and transmission technology. GDO welcomes comments on all preliminary alternatives as well as suggestions for additional alternatives. The alternatives currently under consideration for the proposed Project are as follows:

The No Action Alternative

Under the No Action Alternative, the Agency permits and authorizations would not be granted and the agencies will assume for purposes of the EIS that the Project would not be constructed. The existing transmission infrastructure would remain unchanged, and any associated improvements or upgrades to address current and future demand, reliability, and rapid changes in generation would not be implemented. This alternative serves as a baseline against which the impacts of the other alternatives can be compared.

Proposed Route Alternative

The Proposed Route Alternative for the proposed Project is currently anticipated to include an approximately 420-mile, up to 525-kV electrical transmission line connecting the eastern and western grids, with an associated ROW that would generally be approximately 200 feet wide. According to North Plains, this route attempts to best balance use of existing road and transmission line corridors while avoiding national and state parks; national historic landmarks and National Register of Historic Places-listed or -eligible archaeological sites; inventoried roadless areas; most major waterbodies; greater sage grouse (GRSG) ³ habitat; visually sensitive areas; congested utility corridors; and urban development. The public is encouraged to provide other alternatives for consideration along with any information and analyses they have on such suggested alternatives.

³ The GRSG is a sagebrush species that is in decline across its range due to habitat loss and has been recognized as threatened or near threatened by several national and international organizations Federal agencies manage protection of the species through several habitat designations, which protect GRSG habitat based on value.

Other Alternatives

The following discussion describes the five major route alternatives considered during Project planning. Subject to comments received during scoping, these alternatives may either be dismissed from further analysis or evaluated in detail in the EIS. They are identified as the following:

• Northern Route Alternative (Rosebud, Custer, and Fallon Counties, Montana)

• Central Route Alternative (Rosebud, Custer, and Fallon Counties, Montana)

• Southern Route Alternative (Rosebud, Custer, and Fallon Counties, Montana)

• Tongue River Route Alternative (Custer County, Montana)

• Eastern Route Alternative (Slope, Stark, Morton, and Oliver Counties, North Dakota)

See https://www.energy.gov/nepa/doeeis-0568-north-plains-connector-multiple-locations for a detailed map of these route alternatives.

Northern Route Alternative

This route was developed to maximize co-location with existing linear utilities near Interstate 94 and to minimize routing within the GRSG General Habitat Management Area (GHMA) in accordance with the BLM's MCFO Approved Resource Management Plan (ARMP).

The Northern Route Alternative diverges from the Proposed Route Alternative by leaving directly north from the Colstrip Substation and generally running on a more northerly path through Rosebud and Custer Counties, Montana. From Fallon County, Montana, to the endpoints in North Dakota, the route is the same as that seen in the Proposed Route Alternative.

The Northern Route Alternative is 8.5 miles shorter than the Proposed Route Alternative and crosses 2 fewer perennial waterbodies, and almost 40 miles less GRSG general habitat. The Northern Route Alternative also crosses 2.8 miles more of ARS-administered land and more intermittent or ephemeral waterbodies, and 0.4 mile more BLM-administered Visual Resources Management (VRM) Class II land. Further, the Northern Route Alternative is within 1 mile of 59 more identified cultural resources sites; is within 0.5 mile of the Strawberry Hill Designated Recreation Area; and crosses 9 more transmission lines than the Proposed Route Alternative. This route's northern passage out of Colstrip also crosses several parcels with underlying energy development easements that would conflict with siting an electric transmission line. Finally, this alternative nears the Yellowstone River, contains numerous occurrences of sensitive species, including bats, fish, and eagles, sensitive riparian habitats, and could present increased Tribal and cultural concerns.

Central Route Alternative

This route was designed to avoid the challenges associated with the Yellowstone River valley, congested highway corridors, and urban development areas near Miles City. It resembles the Northern Route Alternative but leaves Colstrip, Montana, in a more northeasterly direction. The Central Route Alternative then maintains a generally central alignment between the Northern Route Alternative and the Southern Route Alternative. The Central Route Alternative aims to strike a balance by incorporating stakeholder feedback associated with co-location of the transmission line with other infrastructure. The Central Route Alternative also avoids the easements north of Colstrip noted in the Northern Alternative.

The Central Route Alternative crosses conservation easements to conserve, protect, and enhance native wildlife habitat. This alternative also crosses conservation easements northeast of Colstrip that include terms that are intended to conserve, protect, and enhance native wildlife habitat. This alternative also crosses Tongue River near 12 Mile Dam, which is a heavily used recreational area for fishing and camping about 0.6 mile to the north, existing residential development, and more irrigated cropland than the Proposed Route Alternative.

Southern Route Alternative

This route intends to take advantage of the gentler topography east of Colstrip compared to the other routes. Further, this route is not within 0.5 miles of a designated recreation area. This route additionally also avoids ARS-administered lands and is about 25 miles shorter than the Proposed Route.

This route avoids some resources, like perennial and ephemeral waterbodies, but crosses others, like VRM Class II areas near the Tongue River, Pumpkin Creek, and east of the Powder River in Custer County, Montana, as well as sites of Tribal and cultural significance. There are also accessibility constraints east of the Powder River that would require engineered roadways and long access roads, which could increase the Project impacts during construction and operation.

Tongue River Route Alternative

The Tongue River Route Alternative passes through the Tongue River Valley. The route is not within 0.25 mile of a GRSG no occupancy zone nor within 0.5 miles of a designated recreation area. The Tongue River Route is almost 30 miles shorter than the Proposed Route Alternative, does not cross ARS-administered lands, and avoids almost 50 miles of GRSG habitat. The Tongue River Route Alternative, however, crosses 5.3 miles more VRM Class II land, is within 1.0 mile of 110 more cultural resource sites, crosses 2 more conservation lands/easements, and crosses 40 more county and local roads than the Proposed Route Alternative.

Several Tribal resources and protected species along the Tongue River have been previously identified during surveys.

Eastern Route Alternative

The Eastern Route Alternative was designed prior to the addition of the 22 miles of EHV AC Morton Transmission Line in Morton County, North Dakota, to the Project scope and objectives. Therefore, this route does not include the SPP interconnection near St. Anthony as described in the Proposed Route Alternative.

The Eastern Route Alternative diverges from the Proposed Route Alternative in Slope County just east of the Montana-North Dakota state line. To achieve a route that balances all potential impacts from the proposed Project, the Eastern Route Alternative heads slightly northeast and east from the North Dakota-Montana state line before it heads southwest to cross the Little Missouri River and generally east through the North Dakota badlands.

The primary considerations for the Eastern Route Alternative design were aligning with existing linear utilities, paralleling Interstate 94 along a more direct route, adhering to the recommendation provided by the USFS to cross the Little Missouri River on private lands, and avoidance of GRSG primary range designated by the North Dakota Game and Fish Department.

Minor Route Variations

During Project planning, North Plains incorporated many minor route variations into its Proposed Route Alternative. Minor route variations are different from major route alternatives in that they are usually shorter and are often designed to accommodate a particular landowner request or to avoid a site-specific environmental resource or engineering constraint. Although minor route variations may range from a few hundred feet long to several miles long, minor route variations typically remain within the same area as the Proposed Route. Examples of route variations include realigning the route from a hay field to pastureland on a ranch to avoid disruption to cultivation; moving a structure location to avoid placing it in a wetland; and adjusting the centerline alignment along a slope to improve constructability.

Endpoint Alternatives

As described in the Proposed Project Details, North Plains determined the proposed Project would connect the existing Colstrip Substation in Rosebud County, Montana, to the Oliver County Substation approximately 6 miles southeast of Center, North Dakota, and a new Morton County Switchyard near St. Anthony, North Dakota. The Project Proponent considered another facility as a potential Western interconnection point: the other nearest potential endpoint in Montana, the existing Broadview Substation in Yellowstone County. This alternative facility would add about 100 miles of transmission line to the Project. In North Dakota, the Project Proponent determined the proposed Project endpoints are the most reasonable connection locations to existing infrastructure on the Eastern Interconnection grid without adding considerable length.

Converter Station Alternatives

As described in the Proposed Project Details, North Plains proposes to use two converter stations near the Project endpoints. The siting of converter stations is constrained insofar as the stations need to be located near the Project endpoints and they must occur along the transmission line route. A converter station site that is not on the proposed transmission line route necessitates proposing a new transmission line route. North Plains is in the process of evaluating alternatives to its proposed converter station sites.

Summary of Expected Impacts

Field investigations, environmental surveys, and other studies are being conducted for the proposed Project to evaluate anticipated impacts to air, noise, climate, geologic hazards, mineral and energy resources, paleontological resources, soils, water, vegetation, wildlife, threatened and endangered species, cultural resources, visual resources, Federal projects, recreation activities, wilderness, and other resources. North Plains is currently conducting field surveys for wetlands/waterbodies, vegetation, general habitat, threatened and endangered and special status species, cultural and tribal resources, architectural history, and paleontological resources. North Plains is also preparing a Phase 1 bat hibernacula assessment, whooping crane habitat assessment, impact assessments for bald and golden eagles (to support Bald and Golden Eagle Protection Act compliance), and GRSG (to support the Montana GRSG mitigation plan), migratory bird habitat assessment (to support the Migratory Bird Treaty Act compliance plan), and species and habitat assessments for federally listed and proposed species to support compliance with section 7 of the Endangered Species Act.

GDO and the cooperating agencies will identify, analyze, and consider mitigation to address the reasonably foreseeable impacts to resources from the proposed Project and all analyzed reasonable alternatives ⁴ and, in accordance with 40 CFR 1502.14(e), include appropriate mitigation measures not already included in the proposed route alternative or other alternatives.

⁴ “Reasonable alternatives” means a reasonable range of alternatives that are technically and economically feasible and meet the purpose and need for the proposed action.

Potential impacts on built, human, and natural environments from the proposed Project will be studied during the Federal, State, and local environmental review processes. These review processes and potential impacts will be analyzed in the EIS. The public is invited to participate in the scoping process to identify potential alternatives and impacts, information, studies, and analyses relevant to the proposed Project and Alternatives.

Anticipated Permits and Authorizations

The Project Proponent will need to secure permits and authorizations from several Federal and state agencies, which include but are not limited to those listed below.

Agency | Permit/authorization
Bureau of Land Management | Right-of-way grant, short-term right-of-way grant, and mineral materials sales contract.
Forest Service | Special Use Permit.
Agricultural Research Service | Easement.
Federal Highway Administration | Permits to cross Federal Aid Highway.
U.S. Army Corps of Engineers | General easement, Section 10 permit, and Section 404 permit.
Montana Department of Environmental Quality | Certificate of Compliance under the Major Facility Siting Act.
North Dakota Public Service Commission | Certificate of Corridor Compatibility and Transmission Facility Route Permit.
North Dakota County Governments (Golden Valley, Grant, Hettinger, Morton, Oliver, and Slope Counties) | Conditional Use Permits.

Schedule for the Decision-Making Process

This notice of intent initiates the scoping period for the EIS. GDO will provide additional opportunities for public participation consistent with DOE NEPA regulations (10 CFR part 1021) and CEQ NEPA regulations (40 CFR parts 1500-1508), including a 45-day comment period on the Draft EIS. Please note that, when commenting during either the scoping or the public comment period, your comment and personal information, if provided, will be retained as a part of the single, consolidated, public record for the project. GDO will allow for anonymous comments.

GDO plans to publish the Draft EIS for public review in Fall 2025 and the Final EIS in Fall 2026. BLM, ARS, and DEQ will release respective decision documents no sooner than 30 days after release of the Final EIS. The USFS will release its own Draft Record of Decision (ROD) alongside the Final EIS, and upon conclusion of the objections process required under USFS regulations, will release a final ROD. Following the issuance of each agency's individual RODs, GDO will issue a determination that the duration for each land-use authorization is commensurate with the anticipated use of the facility, per FPA Section 216(h)(3).

USFS would not issue a ROD concerning applicable USFS authorizations until after completion of the objections process in 36 CFR part 218, subparts A and B. Objections will be accepted only from those who have previously submitted specific written comments regarding the proposed Project during scoping or other designated opportunity for public comment in accordance with 36 CFR 218.5(a). Issues raised in objections must be based on previously submitted timely, specific written comments regarding the proposed Project unless based on new information arising after designated opportunities, and objectors must make a connection between issues raised in comment in their objections. Objections must be filed within 45 days, after the Final EIS and draft ROD. The objection must include specific issues related to the proposed Project; if applicable, how the objector believes the decision violates law, regulation, or policy; and suggested remedies that would resolve the objection. USFS reviews objections and may engage in discussions with objectors to resolve issues. The Reviewing Officer (a USFS official) will issue a written response to the objections, which may include instructions to the responsible official must complete before signing the decision. After the objection process is complete, the Dakota Prairie Grasslands Forest Supervisor would issue the ROD.

Responsible Official and Nature of Decision To Be Made

While GDO is the Lead Federal Agency for the Project EIS, GDO does not have authority or responsibility to make decisions on North Plains' applications to BLM, USFS, and ARS. Those Federal agencies retain their respective decision-making authorities and responsibilities with respect to North Plains' applications. Accordingly, each Federal agency's deciding officials and the scope of decisions to be made are listed here:

BLM: The Field Manager of the Miles City Field Office (MCFO) is the Responsible Official. The Field Manager as the Responsible Official will decide whether to grant the ROW for the portion of the transmission line and associated infrastructure located on public lands administered by the MCFO, and if so, under what terms and conditions. Any necessary mineral materials sales contracts would be granted by either the Field Manager for the Miles City Field Office or the North Dakota Field Office, depending on where the mineral materials are located.

USFS: The Dakota Prairie Grasslands Forest Supervisor is the Responsible Official. The Forest Supervisor as the Responsible Official will decide whether to issue a SUP for the proposed Project for the portion of the project Proposed on USFS-managed land.

ARS: The Plains Area Real Estate Lease Contracting Officer is the Responsible Official. The Plains Area Real Estate Lease Contracting Officer as the Responsible Official will decide whether to grant an easement for the portion of the transmission line and associated infrastructure the proposed Project proposes to place on Federal lands under the control of ARS.

Additional Information

GDO and the cooperating agencies will utilize and coordinate the NEPA process to help support compliance with applicable procedural requirements under Section 106 of the National Historic Preservation Act (54 U.S.C. 306108) as provided in 36 CFR 800.2(d)(3), including public involvement requirements of Section 106. GDO and the cooperating agencies will consult with Indian Tribal Nations on a government-to-government basis in accordance with relevant Departmental policies. Tribal concerns, including impacts on Indian trust assets and potential impacts to cultural resources, will be given due consideration. Federal, state, and local agencies, along with Indian Tribal Nations and other stakeholders that may be interested in or affected by the proposed Project, are invited to participate in the scoping process and, if eligible, may request or be requested by the GDO to participate in the development of the EIS as a cooperating agency.

Signing Authority

This document of the Department of Energy was signed on October 21, 2024, by Maria D. Robinson, Director, Grid Deployment Office, pursuant to delegated authority from the Secretary of Energy. That document evidencing this delegation of authority with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on October 22, 2024.
Treena V. Garrett,
Federal Register Liaison Officer, U.S. Department of Energy.

[FR Doc. 2024-24879 Filed 10-24-24; 8:45 am]

BILLING CODE 6450-01-P